DEPARTMENT OF THE INTERIOR

Fish and Wildlife Service

Notice of Availability of a Draft Environmental Impact Report/Environmental Impact Statement and Receipt of an Application for an Incidental Take Permit for the Coachella Valley Multiple Species Habitat Conservation Plan, Riverside County, CA

AGENCY: Fish and Wildlife Service, Department of the Interior.

ACTION: Notice of availability and receipt of application.

SUMMARY: The Coachella Valley Association of Governments (CVAG), Coachella Valley Conservation Commission (to be formed prior to a permit decision), County of Riverside, Riverside County Flood Control and Water Conservation District, Riverside County Parks and Open Space District, Riverside County Waste Management District, Coachella Valley Water District, Imperial Irrigation District, California Department of Transportation, California Department of Parks and Recreation, Coachella Valley Mountains Conservancy, and the cities of Cathedral City, Coachella, Desert Hot Springs, Indian Wells, Indio, La Quinta, Palm Desert, Palm Springs, and Rancho Mirage (Applicants) have applied to the U.S. Fish and Wildlife Service (Service) for an incidental take permit pursuant to section 10(a)(1)(B) of the Endangered Species Act of 1973, as amended (Act). The Service is requesting public comment on the Draft Coachella Valley Multiple Species Habitat Conservation Plan (MSHCP), Draft Implementing Agreement, and Draft Environmental Impact Report/Environmental Impact Statement (EIR/EIS). The Applicants seek a permit to incidentally take 22 animal species and assurances for 5 plant species, including 17 unlisted species should any of them become listed, under the Act during the term of the proposed 75-year permit. The permit is needed to authorize take of listed animal species (including harm, injury, and harassment) during development in the approximately 1.1 million-acre (1,719 square-mile) Plan Area in the Coachella Valley of Riverside County, California.

A Draft Environmental Impact Statement, which is the Federal portion of the Draft EIR/EIS, has been prepared jointly by the Service and CVAG to analyze the impacts of the MSHCP and is also available for public review. The analyses provided in the Draft EIR/EIS are intended to inform the public of the proposed action, alternatives, and associated impacts; address public comments received during the scoping period for the Draft EIR/EIS; disclose the direct, indirect, and cumulative environmental effects of the proposed action and each of the alternatives; and indicate any irreversible commitment of resources that would result from implementation of the proposed action.

The Draft MSHCP also incorporates a Draft Public Use and Trails Plan which includes proposals that address non-motorized recreation activities on Federal and non-Federal lands in the Santa Rosa and San Jacinto Mountains. The Bureau of Land Management (BLM) is a Cooperating Agency in this planning process and will be using this EIR/EIS to make decisions on BLM-administered public lands pertaining to trail use in the Santa Rosa and San Jacinto Mountains. These proposals constitute activity (implementation) level actions in furtherance of the California Desert Conservation Area Plan (1980), as amended, and the Santa Rosa and San Jacinto Mountains National Monument Management Plan (2004). The BLM will issue a separate record of decision regarding non-motorized recreation activities on public lands after public comments have been received and a Final Environmental Impact Statement has been prepared.

DATES: Written comments should be received on or before February 3, 2005.

ADDRESSES: Comments should be sent to Mr. Jim Bartel, Field Supervisor, U.S. Fish and Wildlife Service, Carlsbad Fish and Wildlife Office, 6010 Hidden Valley Road, Carlsbad, California 92009. You may also submit comments by facsimile to (760) 431-9624.

Information, comments, and/or questions related to the EIR and the California Environmental Quality Act should be submitted to Mr. Jim Sullivan at CVAG, 73710 Fred Waring Drive, Suite 200, Palm Desert, California 92260; telephone (760) 346-1127; facsimile (760) 340-5949.

FOR FURTHER INFORMATION CONTACT: Ms. Therese O'Rourke, Assistant Field Supervisor, at the Carlsbad Fish and Wildlife Office [see ADDRESSES]; telephone (760) 431-9440.

SUPPLEMENTARY INFORMATION:

Availability of Documents

Documents available for public review include the permit applications, the Public Review Draft MSHCP and Appendices I (the Technical Appendix) and II (the Planning Agreement), the accompanying Draft Implementing Agreement, and the Draft EIR/EIS.

Individuals wishing copies of the documents should contact the Assistant Field Supervisor [see FOR FURTHER INFORMATION CONTACT], or by letter to the Carlsbad Fish and Wildlife Office [see ADDRESSES]. Copies of the MSHCP, Draft EIR/EIS, and Draft Implementing Agreement also are available for public review, by appointment, during regular business hours, at the Carlsbad Fish and Wildlife Office or at the Coachella Valley Association of Governments (see ADDRESSES). Copies are also available for viewing in each of the Applicant cities, in the Applicants' public libraries, the Riverside County Planning Departments, and on the World Wide Web at http://www.cvmshcp.org.

(1) Riverside County Planning Department: 4080 Lemon Street, 9th Floor, Riverside, California 92502.

(2) Riverside County Planning: 82675 Hwy 111, Room 209, Indio, California 92201.

(3) U.S. Bureau of Land Management: 690 Garnet Avenue, North Palm Springs, California 92258.

(4) City of Palm Springs: 3200 E. Tahquitz Canyon Way, Palm Springs, California 92262.

(5) City of Cathedral City: 68-700 Avenida Lalo Guerrero, Cathedral City, California 92234.

(6) City of La Quinta: 78-495 Calle Tampico, La Quinta, California 92253.

(7) City of Rancho Mirage: 69825 Highway 111, Rancho Mirage, California 92270.

(8) City of Palm Desert: 73-510 Fred Waring Drive, Palm Desert, California 92260.

(9) City of Indio: 100 Civic Center Mall, Indio, California 92201.

(10) City of Indian Wells: 44950 El Dorado Drive, Indian Wells, California 92210.

(11) City of Coachella: 1515 Sixth Street, Coachella, California 92236.

(12) City of Desert Hot Springs: 65950 Pierson Boulevard, Desert Hot Springs, California 92240.

(13) Cathedral City Public Library: 33520 Date Palm Drive, Cathedral City, California 92234.

(14) Coachella Branch Library: 1538 7th Street, Coachella Valley, California 92260.

(15) Desert Hot Springs Public Library: 1691 West Drive, Desert Hot Springs, California 92240.

(16) Indio Public Library: 200 Civic Center Mall, Indio, California 92201.

(17) Lake Tamarisk Branch Library: Lake Tamarisk Drive, Desert Center, California 92239.

(18) La Quinta Public Library: 78080 Calle Estado, La Quinta, California 92253.

(19) Mecca-North Shore Branch Library: 65250 Cahuilla, Mecca, California 92254.

(20) Palm Springs City Library: 300 South Sunrise Way, Palm Springs, California 92262.

(21) Rancho Mirage Public Library: 42-520 Bob Hope Drive, Rancho Mirage, California 92270.

(22) Riverside County Library: Palm Desert Branch, 73-300 Fred Waring Drive, Palm Desert, California 92260.

(23) Thousand Palms Library: 72-715 La Canada Way, Thousand Palms, California 92276.

Background Information

Section 9 of the Act and Federal regulation prohibit the “take” of fish and wildlife species federally listed as endangered or threatened. Take of federally listed fish or wildlife is defined under section 1532(19) of the Act as including to “harass, harm, pursue, hunt, shoot, wound, kill, trap, capture, or collect, or to attempt to engage in any such conduct.” Harm includes significant habitat modification or degradation that actually kills or injures listed wildlife by significantly impairing essential behavioral patterns, including breeding, feeding, and sheltering (50 CFR 17.3(c)). Under limited circumstances, the Service may issue permits to authorize incidental take; i.e., take that is incidental to, and not the purpose of, otherwise lawful activity. Although take of plant species is not prohibited under the Act, and therefore cannot be authorized under an incidental take permit, plant species are proposed to be included on the permit in recognition of the conservation benefits provided to them under the MSHCP. Regulations governing incidental take permits for threatened and endangered species are found in 50 CFR 17.32 and 17.22, respectively.

The Applicants seek an incidental take permit and assurances for 22 animal species and assurances for 5 plant species. Collectively the 27 listed and unlisted species are referred to as “Covered Species” by the MSHCP and include 5 plant species (2 endangered, 3 unlisted); 2 insect species (both unlisted); 1 fish species (endangered); 1 amphibian species (endangered); 3 reptile species (2 threatened, 1 unlisted); 11 bird species (3 endangered, 8 unlisted); and 4 mammal species (1 endangered and 3 unlisted). The permit would provide take authorization for animal species identified by the MSHCP as “Covered Species.” Take authorized for listed covered animal species would be effective upon permit issuance. For currently unlisted covered animal species, take authorization would become effective concurrent with listing should the species be listed under the Act during the permit term.

The Draft MSHCP is intended to protect and sustain viable populations of native plant and animal species and their habitats in perpetuity through the creation of a reserve system, while accommodating continued economic development and quality of life for residents of the Coachella Valley. The Southern California Association of Governments estimates that in the year 2020 the Coachella Valley will be home to approximately 518,481 people. This represents nearly double the Valley's present population and housing stock. Another study by the California Department of Finance estimates that Riverside County, currently the fastest growing county in the state, will continue to grow to 3.5 million people by 2030 and 4.5 million people by 2040.

The Draft MSHCP plan area encompasses approximately 1.1 million acres in the Coachella Valley and includes the following 9 incorporated cities: Cathedral City, Coachella, Desert Hot Springs, Indian Wells, Indio, La Quinta, Palm Desert, Palm Springs, and Rancho Mirage. It is one of two large, multiple-jurisdictional habitat planning efforts in Riverside County, each of which constitutes a “subregional” plan under the State of California's Natural Community Conservation Planning (NCCP) Act, as amended.

As described in the Draft MSHCP and the Draft EIR/EIS, the proposed MSHCP would provide for the creation of a reserve system that protects and manages approximately 725,780 acres of habitat for the Covered Species, including approximately 538,000 acres of existing conservation lands as of 2003 (482,000 acres as of 1996), 98,100 acres conserved as the local mitigation component as of 2003 (100,600 acres as of 1996), and 10,800 acres of other non-permittee public and quasi-public lands to be conserved. It is anticipated that as of 2003, 31,250 acres will be acquired by State and Federal agencies independent of the MSHCP (39,850 acres as of 1996). The financing plan for the local portion of the reserve assembly as of 2003 addresses 90,600 acres and includes a mitigation fee, tipping fee for use of waste management facilities, transportation mitigation fees, and other funding sources.

The Draft MSHCP identifies the proposed reserve system which will be established from lands within 21 conservation areas that are either adjacent or linked by biological corridors. The acquisition program for the reserve system, involving conservation of 140,150 acres is anticipated to occur over the first 30 years of the permit. When completed, the reserve system will include core habitat for Covered Species, essential ecological processes, and biological corridors and linkages to provide for the conservation of the proposed Covered Species.

The Draft MSHCP includes measures to avoid and minimize incidental take of the Covered Species, emphasizing project design modifications to protect both habitats and species' individuals. A monitoring and reporting plan would gauge the MSHCP's success based on achievement of biological goals and objectives and would ensure that conservation keeps pace with development. The Draft MSHCP also includes a management program, including adaptive management, which allows for changes in the conservation program if the biological species objectives are not met, or new information becomes available to improve the efficacy of the MSHCP's conservation strategy.

Covered Activities would include public and private development within the plan area that requires certain ministerial and discretionary actions by a permittee subject to consistency with MSHCP policies, regional transportation facilities, maintenance of and safety improvements on existing roads, the Circulation Elements of the permittees, maintenance and construction of flood control facilities, and compatible uses in the reserve. The Draft MSHCP makes a provision for the inclusion of special districts and other non-permittee entities in the permit with a certificate of inclusion.

The Public Use and Trails Plan element of the Draft MSHCP provides for coordinated management of trails on public lands involving members of the public, local jurisdictions, and State and other Federal agencies. The Recovery Plan for Bighorn Sheep in the Peninsular Ranges, California (USFWS 2000) recommends development and implementation of an interagency trails management plan to reduce or eliminate detrimental human activities within bighorn sheep habitat. The California Desert Conservation Area Plan Amendment for the Coachella Valley (December 2002) prescribes a combination of methods to avoid, reduce, or mitigate disturbance to bighorn sheep, including voluntary avoidance programs, closures, seasonal restrictions, and permit stipulations and mitigations.

The Draft EIR/EIS analyzes five other alternatives in addition to the proposed MSHCP Preferred Project Alternative described above including: an alternative that would not include the City of Palm Springs; an alternative that includes all existing local, State, and Federal agency land and private conservation land with additional management prescriptions; an alternative that protects core habitat, ecological processes, and biological corridors with less land than the preferred alternative; an expanded conservation alternative; and a no project alternative.

Pursuant to the June 10, 2004, order in Spirit of the Sage Council v. Norton, Civil Action No. 98-1873 (D. D.C.), the Service is enjoined from approving new section 10(a)(1)(B) permits or related documents containing “No Surprises” assurances until such time as the Service adopts new permit revocation rules specifically applicable to section 10(a)(1)(B) permits in compliance with the public notice and comment requirements of the Administrative Procedure Act. This notice concerns a step in the review and processing of a section 10(a)(1)(B) permit and any subsequent permit issuance will be in accordance with the Court's order. Until such time as the Service's authority to issue permits with “No Surprises” assurances has been reinstated, the Service will not approve any incidental take permits or related documents that contain “No Surprises” assurances.

Public Comments

The Service and CVAG invite the public to comment on the Draft MSHCP, Draft Implementing Agreement, and Draft EIR/EIS during a 90-day public comment period beginning the date of this notice. The comment period is opened for 90 days to eliminate the need for an extension subsequent to the close of the comment period. All comments received, including names and addresses, will become part of the official administrative record and may be made available to the public. This notice is provided pursuant to section 10(a) of the Act and Service regulations for implementing the National Environmental Policy Act of 1969 (40 CFR 1506.6). The Service will evaluate the application, associated documents, and comments submitted thereon to prepare a Final EIS. A permit decision will be made no sooner than 30 days after the publication of the Final EIS and completion of the Record of Decision.

Dated: October 22, 2004.
Russell Joe Bellmer,
Acting Deputy Manager, California/Nevada Operations Office, U.S. Fish and Wildlife Service.

[FR Doc. 04-24274 Filed 11-4-04; 8:45 am]

BILLING CODE 4310-55-P